DEPARTMENT OF THE INTERIOR

National Park Service

Notice of Availability of Draft Director's Order Concerning National Park Service Policies and Procedures for Social Science

AGENCY: National Park Service, Interior.

ACTION: Notice of availability.

SUMMARY: The National Park Service (NPS) has prepared a Director's Order setting forth its policies and procedures related to social science. When adopted, the policies and procedures will apply to all units of the national park system.

DATES: Written comments will be accepted until January 15, 2001.

ADDRESSES: Draft Director's Order #78 is available on the Internet at http://www.nps.gov/refdesk/DOrders/index.htm. Requests for copies and written comments should be sent to Dr. Gary Machlis, NPS Visiting Chief Social Scientist, Social Science Program, National Park Service, 1849 C Street, NW (3127), Washington, DC 20240, or to his Internet address: gary_machlis@nps.gov.

FOR FURTHER INFORMATION CONTACT: Dr. Gary Machlis at gary_machlis@nps.gov.

SUPPLEMENTARY INFORMATION: The NPS is updating its current system of internal policies. When these documents contain new policy or procedural requirements that may affect parties outside the NPS, they are first made available for public review and comment before being adopted. This draft of Director's Order #78 covers social science topics such as permits, data collection and Paperwork Reduction Act compliance, ethical guidelines, and roles and responsibilities related to social science in the National Park Service.

Individual respondents may request that we withhold their home address from the administrative record, which we will honor to the extent allowable by law. There also may be circumstances in which we would withhold from the record a respondent's identity, as allowable by law. If you wish us to withhold your name and/or address, you must state this prominently at the beginning of your comment.

Dated: November 27, 2000.
Michael Soukup,
Associate Director, Natural Resource Stewardship and Science.

[FR Doc. 00-30848 Filed 12-4-00; 8:45 am]

BILLING CODE 4321-70-M